ENVIRONMENTAL PROTECTION AGENCY

[EPA-HQ-OPPT-2007-0217; FRL-8129-1]

Approval of Test Marketing Exemptions for Certain New Chemicals

AGENCY: Environmental Protection Agency (EPA).

ACTION: Notice.

SUMMARY: This notice announces EPA's approval of applications for test marketing exemptions (TMEs) under section 5(h)(1) of the Toxic Substances Control Act (TSCA) and 40 CFR 720.38. EPA has designated these applications as TMEs-07-1; 3; 5; 6; 7; 8; 9; and 10. The test marketing conditions are described in each TME application and in this notice.

DATES: Approval of these TMEs is effective May 2, 2007.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Adella Underdown, Chemical Control Division (7405M), Office of Pollution Prevention and Toxics, Environmental Protection Agency, 1200 Pennsylvania Ave., NW., Washington, DC 20460-0001; telephone number: (202) 564-9364; e-mail address: underdown.adella@epa.gov.

SUPPLEMENTARY INFORMATION:

I. General Information

A. Does this Action Apply to Me?

This action is directed in particular to the chemical manufacturer and/or importer who submitted the TMEs to EPA. This action may, however, be of interest to the public in general. Since other entities may also be interested, the Agency has not attempted to describe all the specific entities that may be affected by this action. If you have any questions regarding the applicability of this action to a particular entity, consult the technical person listed under FOR FURTHER INFORMATION CONTACT.

B. How Can I get Copies of this Document and Other Related Information?

1. Docket. EPA has established a docket for this action under docket ID number EPA-HQ-OPPT-2007-0217. All documents in the docket are listed in the docket's index at http://www.regulations.gov. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

2. Electronic access. You may access this Federal Register document electronically through the EPA Internet under the “Federal Register” listings at http://www.epa.gov/fedrgstr.

II. What is the Agency's Authority for Taking this Action?

Section 5(h)(1) of TSCA and 40 CFR 720.38 authorizes EPA to exempt persons from premanufacture notification (PMN) requirements and permit them to manufacture or import new chemical substances for test marketing purposes, if the Agency finds that the manufacture, processing, distribution in commerce, use, and disposal of the substances for test marketing purposes will not present an unreasonable risk of injury to health or the environment. EPA may impose restrictions on test marketing activities and may modify or revoke a test marketing exemption upon receipt of new information which casts significant doubt on its finding that the test marketing activity will not present an unreasonable risk of injury.

III. What Action is the Agency Taking?

EPA has approved TMEs-07-1; 3; 5; 6; 7; 8; 9; and 10. EPA has determined that test marketing these new chemical substances, under the conditions set out in each TME application and in this notice, will not present any unreasonable risk of injury to health or the environment.

IV. What Restrictions Apply to these TMEs?

The test market time period, production volume, number of customers, and use must not exceed specifications in the applications and this notice. All other conditions and restrictions described in the applications and in this notice must also be met.

TME-07-0001.

Date of Receipt: November 9, 2006.

Notice of Receipt: December 15, 2006 (71 FR 75546) (8106-7).

Applicant: Cytec Surface Specialties Inc.

Chemical: (G) Acrylated aliphatic polyurethane.

Use: (G) Coatings resin.

Production Volume: CBI.

Number of Customers: CBI.

Test Marketing Period: CBI days, commencing on first day of commercial manufacture.

TME-07-0003.

Date of Receipt: November 20, 2006.

Notice of Receipt: January 19, 2007 (72 FR 2513) (8111-5).

Applicant: Cytec Surface Specialties Inc.

Chemical: (G) Substituted carbopolycycle, polymer with substituted alkane and trialkylene glycol, substituted epoxy alkyl ester.

Use: (G) Intermediate polymer for coatings.

Production Volume: CBI.

Number of Customers: CBI.

Test Marketing Period: CBI days, commencing on first day of commercial manufacture.

TME-07-0005.

Date of Receipt: December 4, 2006.

Notice of Receipt: January 19, 2007 (72 FR 2513) (8111-5).

Applicant: Cytec Surface Specialties Inc.

Chemical: (G) Acrylated aliphatic polyurethane.

Use: (G) Coatings Resin.

Production Volume: CBI.

Number of Customers: CBI.

Test Marketing Period: CBI days, commencing on first day of commercial manufacture.

TME-07-0006.

Date of Receipt: January 10, 2007.

Notice of Receipt: March 9, 2007 (72 FR 10754) (8118-6).

Applicant: Cytec Surface Specialties Inc.

Chemical: (G) Polester acrylate resin.

Use: (G) Coatings resin.

Production Volume: CBI.

Number of Customers: CBI.

Test Marketing Period: CBI days, commencing on first day of commercial manufacture.

TME-07-0007.

Date of Receipt: January 10, 2007.

Notice of Receipt: March 9, 2007 (72 FR 10754) (8118-6).

Applicant: Cytec Surface Specialties Inc.

Chemical: (G) Substituted carbomonocycles, polymer with substituted glycols and alkyldioic acid.

Use: (G) Resin for paints and coatings.

Production Volume: CBI.

Number of Customers: CBI.

Test Marketing Period: CBI days, commencing on first day of commercial manufacture.

TME-07-0008.

Date of Receipt: January 10, 2007.

Notice of Receipt: March 9, 2007 (72 FR 10754) (8118-6).

Applicant: Cytec Surface Specialties Inc.

Chemical: (G) Heterocyclic homopolymer, polycyclic substituted ester.

Use: CBI.

Production Volume: CBI.

Number of Customers: CBI.

Test Marketing Period: CBI days, commencing on first day of commercial manufacture.

TME-07-0009.

Date of Receipt: January 19, 2007.

Notice of Receipt: March 9, 2007 (72 FR 10754) (8118-6).

Applicant: Cytec Surface Specialties Inc.

Chemical: (G) Formaldehyde, polymer with substituted carbomonocycles, alkyl ether.

Use: CBI.

Production Volume: CBI.

Number of Customers: CBI.

Test Marketing Period: CBI days, commencing on first day of commercial manufacture.

TME-07-0010.

Date of Receipt: January 22, 2007.

Notice of Receipt: March 9, 2007 (72 FR 10754) (8118-6).

Applicant: Cytec Surface Specialties Inc.

Chemical: (G) Alkenoic acid alkyl esters, polymer with substituted carbomonocycle, substituted epoxy alkyl ester compound. With substituted amine.

Use: CBI.

Production Volume: CBI.

Number of Customers: CBI.

Test Marketing Period: CBI days, commencing on first day of commercial manufacture.

The following additional restrictions apply to these TMEs. A bill of lading accompanying each shipment must state that the use of the substance is restricted to that approved in the TME. In addition, the applicant shall maintain the following records until 5 years after the date they are created, and shall make them available for inspection or copying in accordance with section 11 of TSCA:

1. Records of the quantity of the TME substance produced and the date of manufacture.

2. Records of dates of the shipments to each customer and the quantities supplied in each shipment.

3. Copies of the bill of lading that accompanies each shipment of the TME substance.

V. What was EPA's Risk Assessment for these TMEs?

EPA identified no significant health or environmental concerns for these test market substances based on the low toxicity of each substance. Therefore, the test market activities will not present any unreasonable risk of injury to human health or the environment. (These TMEs were submitted per the TSCA New Chemicals Sustainable Futures Voluntary Pilot Project; see the Federal Register of Dec. 11, 2002 (67 FR 76282) (FRL-7198-6)).

VI. Can EPA Change Its Decision on these TMEs in the Future?

Yes. The Agency reserves the right to rescind approval or modify the conditions and restrictions of an exemption should any new information that comes to its attention cast significant doubt on its finding that the test marketing activities will not present any unreasonable risk of injury to human health or the environment.

List of Subjects

Environmental protection, Test marketing exemptions.

Dated: May 2, 2007.
Kenneth Moss,
Acting Chief, New Chemicals Prenotice Management Branch, Office of Pollution Prevention and Toxics.

[FR Doc. E7-8773 Filed 5-8-07 8:45 am]

BILLING CODE 6560-50-S